NATIONAL AERONAUTICS AND SPACE ADMINISTRATION

[Notice 00-099]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing:

NASA Case No. LAR 15361-2: Gas Sensor Detector Balancing;

NASA Case No. LAR 15463-2-SB: Fabrication of Molded Magnetic Article (Div of -1);

NASA Case No. LAR 15493-2/3/4: Pistons and Cylinders Made of Carbon-Carbon Composites (Div of -1);

NASA Case No. LAR 15499-1: Method and Apparatus for Assessment of Changes in Intracranial Pressure;

NASA Case No. LAR 15508-1: Distributed Rayleigh Scatter Fiber Optic Strain Sensor;

NASA Case No. LAR 15555-2: Molecular Level Coating of Metal Oxide Particles;

NASA Case No. LAR 15761-1-SB: Melt-Extrusion of Polyimide Fibers, Ribbons, Rods, and Shaped Parts;

NASA Case No. LAR 15816-1: Piezoelectric Macro-Fiber Composite Actuator and Method for Making Same;

NASA Case No. LAR 15818-2: Optical Path Switching Based Differential Absorption Radiometry for Substance Detection;

NASA Case No. LAR 15831-3: Hollow Polyimide Microspheres;

NASA Case No. LAR 15856-1: Device and Method for Reducing Aircraft Noise;

NASA Case No. LAR 15934-1: Edge Triggered Apparatus and Method for Measuring Strain in Bragg Gratings;

NASA Case No. LAR 16093-1: Thickness Measurement Device for Ice or Ice Mixed with Water or Other Liquids (CIP of 15825 which was a CIP of 15061-1).

DATES: August 24, 2000.

FOR FURTHER INFORMATION CONTACT: Linda Blackburn, Patent Attorney, NASA Langley Research Center, Mail Code 212, Hampton, VA 23681-2199; Tel. (757) 864-9260; Fax (757) 864-9190.

Dated: August 16, 2000.
Edward A. Frankle,
General Counsel.

[FR Doc. 00-21583 Filed 8-23-00; 8:45 am]

BILLING CODE 7510-01-P